DEPARTMENT OF TRANSPORTATION

Federal Highway Administration

Environmental Impact Statement: Rankin County, Mississippi

AGENCY: Federal Highway Administration (FHWA), DOT.

ACTION: Notice of intent.

SUMMARY: The FHWA is issuing this notice to advise the public that an environmental impact statement will be prepared for the proposed extension of Airport Parkway from Old Brandon Road south to I-20 along Highway 475 in Rankin County, Mississippi.

FOR FURTHER INFORMATION CONTACT: Cecil Vick, Environmental Coordinator, Federal Highway Administration, 666 North Street, Suite 105, Jackson, MS 39202-3199, Telephone: (601) 965-4217. Contacts at the State and local level, respectively are: Mr. Claiborne Barnwell, Environmental/Location Division Engineer, Mississippi Department of Transportation, P.O. Box 1850, Jackson, MS, 39215-1850, telephone: (601) 359-7920; and Mr. William R. May, District Engineer, Mississippi Department of Transportation, 7759 Highway 80 W., Newton, MS, 39345, telephone (601) 683-3341.

SUPPLEMENTARY INFORMATION: The FHWA, in cooperation with the Mississippi Department of Transportation (MDOT), will prepare an Environmental Impact Statement (EIS) for the proposed extension of Airport Parkway from Old Brandon Road south to I-20 along Highway 475 in Rankin County, Mississippi.

The project as proposed would be a facility with full access controls. The study area for the proposed project is bounded by Old Brandon Road to the north, Interstate 20 to the south, and extends a sufficient distance beyond these boundaries to allow for alternative concepts. The boundaries will extend to the vicinity of Fox Hall Drive on the west and approximately 300 meters (1,000 feet) east of the existing roundabout at the airport. Alternatives under consideration include (1) taking no action and (2) build alternative.

A scoping process will be initiated that involves all appropriate federal and state agencies. This will continue throughout the study as an ongoing process. A formal scoping meeting will be held for the project. Coordination will be continued with federal, state, and local agencies, and with private organizations and citizens who express or are known to have interest in this proposal. A formal public involvement process will be initiated, and public meetings will be held as appropriate. The draft EIS will be available for public and agency review and comment prior to the official public hearing.

To ensure that the full range of issues related to this proposed action are addressed and all significant issues identified, comments, and suggestions are invited from all interested parties. Comments or questions concerning this proposed action and the EIS should be directed to the FHWA or MDOT at the addresses provided above.

Andrew H. Hughes,
Division Administrator, Jackson, Mississippi.

[FR Doc. 00-30839 Filed 12-4-00; 8:45 am]

BILLING CODE 4910-22-M